Proclamation 7669 of April 30, 2003

Older Americans Month, 2003

By the President of the United States of America

A Proclamation

Advances in medicine, public health, science, and technology are keeping Americans healthier and adding years to our lives. As our population of senior citizens continues to grow, our Nation remains dedicated to fulfilling our promises to these valuable members of our society. This year's observance of Older Americans Month, “What We Do Makes A Difference,” recognizes the important contributions of older Americans and the network of services that support them. Older Americans continue to work in a variety of jobs, from teachers, to engineers, to business owners and entrepreneurs, and in so doing bring invaluable experience and leadership skills. Additionally, their wisdom, strength, and compassion reflect the character of our great Nation. During this month, we honor our seniors and thank them for the lessons they teach us and the strong values they instill in families and communities throughout our country.

Serving as examples to others, throughout our Nation every day, older Americans are engaging in acts of compassion. Over a half million members of the Senior Corps are volunteering their time and talents to help those in need. Retired doctors, nurses, police, and firefighters are helping communities prepare for emergencies, and countless other older Americans are bringing comfort and care to their families and neighbors. These individuals understand the importance of service, and their efforts are helping to build a more welcoming society. Many food banks, clothing distribution programs, and other social service activities of faith-based and community organizations could not operate without the senior Americans who volunteer in these efforts.

As these individuals continue to work on our behalf, our Nation is working to fulfill our obligations to older Americans by providing them with good health care and other services to enhance their lives. My Administration is coordinating with State and Area Agencies on Aging, and faith-based and community organizations to better provide essential services, such as meals, nutrition, counseling, and health screening, to our seniors. Seven million older Americans and their families are currently being served by a large network of Federal, State, tribal, local partnerships, and thousands of volunteers. The services provided by these groups make it easier for older Americans to remain in their homes, communities, and the workplace, which helps preserve their dignity and independence.

In addition, our Medicare system is our binding commitment as a caring society. When Medicare was signed into law 38 years ago, it was designed to bring the healing miracle of modern medicine to our senior citizens. We must renew our commitment to giving seniors access to the preventative medicines and new drugs that are transforming health care in America. Medicare must be available in a variety of forms, and older Americans must have the opportunity to choose the healthcare plan that best fits their needs. My Administration will continue its efforts to improve programs that support older Americans and to offer innovative options for long-term care.

NOW, THEREFORE, I, GEORGE W. BUSH, President of the United States of America, by virtue of the authority vested in me by the Constitution and laws of the United States, do hereby proclaim May 2003 as Older Americans Month. I commend our senior citizens for their many contributions to our society. I further commend the network of Federal, State, local, and tribal organizations, service and healthcare providers, caregivers, and millions of dedicated volunteers for their daily efforts on behalf of our senior citizens. I encourage all Americans to honor their elders, to find opportunities to address their needs, and to work together to reinforce the bonds that unite families and communities. I also call upon all our citizens to publicly reaffirm our Nation's commitment to older Americans this month, and throughout the year.

IN WITNESS WHEREOF, I have hereunto set my hand this thirtieth day of April, in the year of our Lord two thousand three, and of the Independence of the United States of America the two hundred and twenty-seventh.

B

[FR Doc. 03-11189

Filed 5-2-03; 8:45 am]

Billing code 3195-01-P